DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains in the possession of the Denver Museum of Nature & Science, Denver, CO. The human remains were removed from unspecified area(s) on or near the Rosebud Indian Reservation in South Dakota.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Denver Museum of Nature & Science professional staff in consultation with representatives of the Rosebud Sioux Tribe of the Rosebud Indian Reservation, South Dakota.

Between 1895 and 1899, human remains representing an unknown number of individuals were removed from an unspecified area on or near the Rosebud Indian Reservation in South Dakota. The human remains are 16 small fragments of long bones, 5 teeth, part of a mandible, and 2 vertebrae. Jesse H. Bratley obtained the human remains and three pieces of animal bone while teaching at the Lower Cut Meat School on the Rosebud Indian Reservation. Based on museum records, the human remains probably were not removed from a burial context. At Mr. Bratley's death in 1948, the human remains came into the possession of Mr. Bratley's daughter, Hazel Bratley. In 1961, Mary W.A. Crane and Francis V. Crane purchased the human remains from Ms. Bratley. In 1983, the Cranes donated the human remains to the museum as part of the Jesse H. Bratley Collection and the museum accessioned the human remains into the collection in the same year. No known individual(s) was identified. No associated funerary objects are present.

The human remains were probably collected from the ground surface. Museum records, consultation with tribal leaders and elders of the Rosebud Sioux Tribe of the Rosebud Indian Reservation, South Dakota, and examination by a physical anthropologist indicate that the human remains are Native American. Based on museum records, physical evidence, and information obtained during consultation, the human remains most likely date from A.D. 1800 to 1890. Mr. Bratley collected directly from the Rosebud Sioux during the time he lived and taught at Lower Cut Meat Creek. During consultation, tribal officials and elders suggested that the human remains are from the Rosebud Sioux Tribe of the Rosebud Indian Reservation, South Dakota.

Between 1895 and 1899, human remains representing the fragmentary and commingled remains of a minimum of three individuals were removed from an unspecified area on or near the Rosebud Indian Reservation in South Dakota. Jesse H. Bratley obtained the human remains sometime while teaching at the Lower Cut Meat School on the Rosebud Indian Reservation. At Mr. Bratley's death in 1948, the human remains came into the possession of Mr. Bratley's daughter, Hazel Bratley. In 1961, Mary W.A. Crane and Francis V. Crane purchased the human remains from Ms. Bratley. In 1983, the Cranes donated the human remains to the museum and the museum accessioned the human remains into the collection in the same year. No known individuals were identified. No associated funerary objects are present.

Morphological evidence suggests scaffold¯type burials and staining indicative of copper ornaments. Museum records, consultation with tribal leaders and elders of the Rosebud Sioux Tribe of the Rosebud Indian Reservation, South Dakota, and examination by a physical anthropologist indicate that the human remains are Native American. Based on museum records, physical evidence, and information obtained during consultation, the human remains most likely date from A.D. 1800 to 1890. Mr. Bratley collected directly from the Rosebud Sioux during the time he lived and taught at Lower Cut Meat Creek. During consultation, tribal officials and elders suggested that the human remains are from the Rosebud Sioux Tribe of the Rosebud Indian Reservation, South Dakota.

Officials of the Denver Museum of Nature & Science have determined that, pursuant to 25 U.S.C. 3001, (9¯10), the human remains described above represent the physical remains of at least four individuals of Native American ancestry. Officials of the Denver Museum of Nature & Science also have determined that, pursuant to 25 U.S.C. 3001 (2), there is a relationship of shared group identity that can be reasonably traced between the Native American human remains and the Rosebud Sioux Tribe of the Rosebud Indian Reservation, South Dakota.

Representatives of any other Indian tribe that believes itself to be culturally affiliated with the human remains should contact Dr. Ella Maria Ray, NAGPRA Officer, Department of Anthropology, Denver Museum of Nature & Science, 2001 Colorado Boulevard, Denver, CO 80205, telephone (303) 370¯6056, before November 12, 2004. Repatriation of the human remains to the Rosebud Sioux Tribe of the Rosebud Indian Reservation, South Dakota may proceed after that date if no additional claimants come forward.

The Denver Museum of Nature & Science is responsible for notifying the Rosebud Sioux Tribe of the Rosebud Indian Reservation, South Dakota that this notice has been published.

September 15, 2004.
Sherry Hutt,
Manager, National NAGPRA Program.

[FR Doc. 04-22837 Filed 10-8-04; 8:45 am]

BILLING CODE 4312-50-S